INTERNATIONAL TRADE COMMISSION

[Investigation Nos. 701-TA-759 and 731-TA-1740-1741 (Final)]

Multifunctional Acrylate and Methacrylate Monomers and Oligomers (MAMMOs) From South Korea and Taiwan; Revised Schedule for the Subject Proceeding

AGENCY: United States International Trade Commission.

ACTION: Notice.

December 11, 2025.

FOR FURTHER INFORMATION CONTACT: Junie Joseph ((202) 205-3363), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective August 25, 2025, the Commission established a schedule for the conduct of the subject proceeding (90 FR 42984, September 5, 2025). Due to lapse in appropriations and the ensuing cessation of Commission operations, the Commission issued a revised schedule, effective November 25, 2025 (90 FR 55175, December 1, 2025). Due to additional tolling of 21 days by the Department of Commerce, the Commission is again revising its schedule as follows: the prehearing staff report will be placed in the nonpublic record on December 29, 2025; the deadline for filing prehearing briefs is January 6, 2026; requests to appear at the hearing must be filed with the Secretary to the Commission on January 7, 2026; a prehearing conference will be held on January 8, 2026, if deemed necessary; parties shall file and serve written testimony and presentation slides in connection with their presentation at the hearing by no later than noon on January 12, 2026; the hearing will be held at the U.S. International Trade Commission Building at 9:30 a.m. on January 13, 2026; the deadline for filing posthearing briefs and for written statements from any person who has not entered an appearance as a party is January 21, 2026; the Commission will make its final release of information on February 5, 2026; and final party comments are due on February 9, 2026.

For further information concerning this proceeding, see the Commission's notice cited above and the Commission's Rules of Practice and Procedure, part 201, subparts A and B (19 CFR part 201), and part 207, subparts A and C.

Authority: This proceeding is being conducted under authority of title VII of the Tariff Act of 1930; this notice is published pursuant to section 207.21 of the Commission's rules.

By order of the Commission.
Issued: December 12, 2025.
Lisa Barton,
Secretary to the Commission.

[FR Doc. 2025-22938 Filed 12-15-25; 8:45 am]

BILLING CODE 7020-02-P